DEPARTMENT OF COMMERCE

National Oceanic and Atmospheric Administration

[I.D. 102400F]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Research Steering Committee and Social Science Advisory Committee (SSAC) in November, 2000 to consider actions affecting New England fisheries in the exclusive economic zone (EEZ). Recommendations from these groups will be brought to the full Council for formal consideration and action, if appropriate.

DATES: The meetings will be held on Monday, November 13, 2000. See SUPPLEMENTARY INFORMATION for specific dates and times.

ADDRESSES: The meetings will be held in Boston, MA and Wakefield, MA. See SUPPLEMENTARY INFORMATION for specific locations.

FURTHER INFORMATION CONTACT: Paul J. Howard, Executive Director, New England Fishery Management Council; (978)465-0492. Requests for special accommodations should be addressed to the New England Fishery Management Council, 50 Water Street, Mill 2, Newburyport, MA 01950; telephone: (978) 465-0492.

SUPPLEMENTARY INFORMATION:

Meeting Dates and Agendas

Monday, November 13, 2000, 9:30 a.m.—Research Steering Committee Meeting

Location: Sheraton Colonial Hotel, One Audubon Road, Wakefield, MA 01880; telephone: (781) 245-9300.

Continued work on the development of a collaborative research program to address the next round of funds appropriated by Congress for 2001.

Monday, November 13, 2000 at 10:00 a.m.—Social Sciences Advisory Committee (SSAC) Meeting

Location: Coast Guard Building, 427 Commercial Street, Boston, MA 02210; telephone: (617) 223-3187.

The SSAC will finalize comments on the Scallop Stock Assessment and Fishery Evaluation Report, discuss its priorities for the next year and develop plans for a social sciences peer review workshop.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: October 25, 2000.
Richard W. Surdi,
Acting Director, Office of Sustainable Fisheries, National Marine Fisheries Service.

[FR Doc. 00-27821 Filed 10-27-00; 8:45 am]

BILLING CODE: 3510-22-S